DEPARTMENT OF LABOR

Office of the Secretary

Senior Executive Service; Appointment of Members to the Performance Review Board

Title 5 U.S.C. 4314(c)(4) provides that Notice of the Appointment of an individual to serve as a member of the Performance Review Board of the Senior Executive Service shall be published in the Federal Register.

The following individuals are hereby appointed to serve on the Department's Performance Review Board:

Permanent Membership

Chair—Deputy Secretary—Seth D. Harris.

Vice-Chair—Assistant Secretary for Administration and Management—T. Michael Kerr.

Executive Secretary—Director, Executive Resources & Personnel Security—Crystal Scott.

Rotating Membership

ASP Kathleen E. Franks, Director, Office of Regulatory and Programmatic Policy—appointment expires on 09/30/12.

EBSA Sharon S. Watson, Director, Office of Participant Assistance—appointment expires on 9/30/12.

ESA Rachel P. Leiton, Director, Energy Employees' Occupational Illness Compensation, Office of Workers' Compensation Programs—appointment expires on 09/30/11.

ESA Nancy M. Flynn, Deputy Director for Office of Workers' Compensation Programs—appointment expires on 09/30/12.

ESA Sandra S. Zeigler, Regional Director (Chicago), Office of Federal Contract Compliance Programs—appointment expires on 9/30/12.

ETA Grace A. Kilbane, Administrator, Office of Workforce Investment—appointment expires on 09/30/11.

ILAB Marcia M. Eugenio, Director, Office of Child Labor, Forced Labor Human Trafficking—appointment expires on 09/30/12.

OASAM Maureen Walsh, Deputy Assistant Secretary for Budget and Performance Planning—appointment expires on 09/20/12.

OASAM Charlotte A. Hayes, Deputy Assistant Secretary for Policy—appointment expires on 09/30/12.

OASAM Milton A. Stewart, Director, Business Operations Center—appointment expires on 09/30/12.

OASAM Ramon Suris-Fernandez, Director, Civil Rights Center—appointment expires on 09/30/11.

OSEC Deborah Greenfield, Executive Secretary—appointment expires on 9/30/12.

OSHA Dean McDaniel, Regional Administrator, Dallas—appointment expires on 09/30/12.

SOL Katherine E. Bissell, Associate Solicitor for Civil Rights and Labor Management—appointment expires on 09/30/11.

SOL Jeffrey L. Nesvet, Associate Solicitor for Federal Employees' and Energy Workers' Compensation—appointment expires on 09/30/10.

VETS John M. McWilliam, Deputy Assistant Secretary for Operations and Management—appointment expires on 9/30/10.

VETS Ismael Ortiz, Jr., Deputy Assistant Secretary—appointment expires on 9/30/12.

For Further Information Contact: Ms. Crystal Scott, Director, Office of Executive Resources and Personnel Security, Room C5508, U.S. Department of Labor, Frances Perkins Building, 200 Constitution Avenue, NW., Washington, DC 20210, telephone: (202) 693-7628.

Signed at Washington, DC, this 29th day of October, 2009.
Hilda L. Solis,
Secretary of Labor.

[FR Doc. E9-26849 Filed 11-5-09; 8:45 am]

BILLING CODE 4510-23-P